DEPARTMENT OF THE INTERIOR

Fish and Wildlife Service

Wapack National Wildlife Refuge

AGENCY: Fish and Wildlife Service, Interior.

ACTION: Notice of intent: preparation of a comprehensive conservation plan and environmental assessment; request for comment.

SUMMARY: The U.S. Fish and Wildlife Service (Service, we) intends to gather information necessary to prepare a comprehensive conservation plan (CCP) and environmental assessment (EA) for Wapack National Wildlife Refuge (NWR) in Greenfield, Lyndeborough, and Temple, New Hampshire. We furnish this notice in compliance with our CCP policy to advise other agencies and the public of our intentions, and to obtain suggestions and information on the scope of issues to be considered in the planning process.

DATES: We will hold a public open house meeting to begin the CCP planning process; see SUPPLEMENTARY INFORMATION for date, time, and location.

ADDRESSES: Wapack National Wildlife Refuge, c/o Great Bay National Wildlife Refuge, 100 Merrimac Drive, Newington, New Hampshire 03801-2903, at 603-431-7511 (telephone); 603-431-6014 (FAX); fw5rw_gbnwr@fws.gov (e-mail); http://www.fws.gov/Refuges/profiles/index.cfm?id=53572 (Web site).

FOR FURTHER INFORMATION, CONTACT: Lelaina Marin, Assistant Refuge Planner, U.S. Fish and Wildlife Service, 300 Westgate Center Drive, Hadley, Massachusetts 01035; 413-253-8731 (telephone); 413-253-8468 (FAX); northeastplanning@fws.gov (e-mail).

SUPPLEMENTARY INFORMATION: With this notice, we initiate the CCP for Wapack NWR with headquarters in Newington, New Hampshire. We will hold a public open house and announce its location, date, and time at least 2 weeks in advance, in special mailings and local newspaper notices, on our Web site, and through personal contacts. Additional public information sessions in the local community are available upon request.

Under the National Wildlife Refuge System Administration Act of 1966, as amended by the National Wildlife Refuge System Improvement Act of 1997 (16 U.S.C. 668dd-668ee), the Service is to manage all lands in the National Wildlife Refuge System in accordance with an approved CCP. The plan guides management decisions and identifies refuge goals, management objectives, and strategies for achieving refuge purposes over a 15-year period.

The planning process will cover many elements, including wildlife and habitat management, visitor and recreational activities, wilderness area management, cultural resource protection, and facilities and infrastructure. Compatibility determinations will be completed for all applicable refuge public uses. We will also conduct a wilderness review on refuge lands to determine whether any areas on the refuge qualify for those Federal designations.

Public input into the planning process is essential. The comments we receive will help identify key issues and refine our goals and objectives for managing refuge resources and visitor use. Additional opportunities for public participation will arise throughout the planning process, which we expect to complete by September 2008. We are presently summarizing refuge data and collecting other resource information to provide us a scientific basis for our resource decisions. We will prepare the EA in accordance with the Council on Environmental Quality procedures for implementing the National Environmental Policy Act of 1969 (42 U.S.C. 4321-4370d).

The 1,672-acre Wapack NWR, established through donation in 1972, was New Hampshire's first national wildlife refuge. It is administered by Great Bay NWR, headquartered in Newington, New Hampshire. Its purpose is for use as an inviolate sanctuary or any other management purpose for migratory birds. The refuge is located about 20 miles west of Nashua, New Hampshire, and encompasses the 2,278-foot North Pack Monadnock Mountain in the towns of Greenfield, Lyndeborough, and Temple. The terms of the deed of donation require the Service to manage the refuge as a “wilderness” for wildlife. Specific restrictions include prohibiting hunting, fishing, trapping, motorized vehicles and tree cutting.

Generally, refuge lands are characterized by mature northern hardwood-mixed and conifer (spruce-fire) forest. These forests provide nesting habitat for numerous migratory songbirds, such as the black-capped chickadee, blackburnian warbler, black-throated blue warbler, hermit thrush, myrtle warbler, ovenbird and red-eyed vireo. The refuge also supports a wide variety of wildlife, including deer, bear, coyote, fisher, fox, mink and weasel.

Refuge visitors annually engage in wildlife observation and photography. The refuge is especially popular as a hawk migration viewing area. A 3-mile segment of the 21-mile Wapack Trail, a spur of the Appalachian Trail, traverses the refuge and rewards hikers with a beautiful view of the surrounding mountains.

Dated: January 19, 2007.
Richard O. Bennett,
Acting Regional Director, U.S. Fish and Wildlife Service, Hadley, Massachusetts.

[FR Doc. E7-3111 Filed 2-22-07; 8:45 am]

BILLING CODE 4310-55-P